DEPARTMENT OF STATE

[Delegation of Authority: 380]

Delegation by the Secretary of State to the Under Secretary for Arms Control and International Security of Authority To Make Findings and Submit Reports Regarding Compliance With the Treaty on Conventional Armed Forces in Europe

By virtue of the authority vested in me as Secretary of State, including Section 1 of the State Department Basic Authorities Act, as amended (22 U.S.C. 2651a), and Executive Order 13313, dated July 31, 2003, and to the extent authorized by law, I hereby delegate to the Under Secretary for Arms Control and International Security the authority to make findings, including certifications, determinations, and assessments, and to submit the Report on Compliance With the Treaty on Conventional Armed Forces in Europe, consistent with Condition 5(C) of the Resolution of Advice and Consent to Ratification of the Document Agreed Among the States Parties to the Treaty on Conventional Armed Forces in Europe of November 19, 1990 (the “Flank Document”).

Any act, executive order, regulation or procedure subject to, or affected by, this delegation shall be deemed to be such act, executive order, regulation or procedure as amended from time to time.

Notwithstanding this delegation of authority, the Secretary, the Deputy Secretary, or the Deputy Secretary for Management and Resources may at any time exercise any authority or function delegated by this delegation of authority.

This delegation of authority shall be published in the Federal Register.

Dated: December 30, 2014.
John F. Kerry,
Secretary of State.

[FR Doc. 2015-00359 Filed 1-12-15; 8:45 am]

BILLING CODE 4710-27-P